DEPARTMENT OF HOMELAND SECURITY

Coast Guard

[USCG-2005-22234]

National Offshore Safety Advisory Committee

AGENCY: Coast Guard, DHS.

ACTION: Notice of meeting.

SUMMARY: The National Offshore Safety Advisory Committee (NOSAC) and its Liftboat III Subcommittee will meet to discuss various issues relating to offshore safety and security. Both meetings will be open to the public.

DATES: NOSAC will meet on Thursday, October 6, 2005, from 9 a.m. to 3 p.m. The Liftboat III Subcommittee will meet on Wednesday, October 5, 2005, from 1:30 p.m. to 3 p.m. These meetings may close early if all business is finished. Written material and requests to make oral presentations should reach the Coast Guard on or before September 22, 2005. Requests to have a copy of your material distributed to each member of the committee should reach the Coast Guard on or before September 22, 2005.

ADDRESSES: NOSAC will meet in “Ballroom C/D” of the Hilton New Orleans Airport hotel, 901 Airline Drive, Kenner, Louisiana. The Liftboat III Subcommittee will meet in the “Segnette” room of the same hotel. Send written material and requests to make oral presentations to Commander J. M. Cushing, Commandant (G-MSO-2), U.S. Coast Guard Headquarters, 2100 Second Street SW., Washington, DC 20593-0001. This notice is available on the Internet at http://dms.dot.gov.

FOR FURTHER INFORMATION CONTACT: Commander J. M. Cushing, Executive Director of NOSAC, or Mr. Jim Magill, Assistant to the Executive Director, telephone 202-267-1082, fax 202-267-4570.

SUPPLEMENTARY INFORMATION: Notice of the meetings is given under the Federal Advisory Committee Act, 5 U.S.C. App. 2.

Agenda of Meetings

National Offshore Safety Advisory Committee. The agenda includes the following:

(1) Report on issues concerning the International Maritime Organization and the International Organization for Standardization.

(2) Report from Subcommittee on Safety of Life at Sea (SOLAS) compliance of U.S. flagged Offshore Support Vessels including Liftboats.

(3) Report from the Liftboat III Subcommittee on Liftboat Licenses.

(4) Offshore Helidecks—new and revised API and ICAO standards.

(5) Revision of 33 CFR Chapter I, Subchapter N, Outer Continental Shelf activities.

(6) 33 CFR Chapter I, Subchapter NN, Temporary Final Rule on Deepwater Ports, and status of license submissions for LNG deepwater ports.

Liftboat III Subcommittee. The agenda includes the following:

(1) Review and discuss previous work.

(2) Review Offshore Marine Service Association (OMSA) Liftboat Training outline.

(2) Review Final Report of answers to NOSAC Task Statement on Liftboat Licensing.

Procedural

The meeting is open to the public. Please note that the meeting may close early if all business is finished. At the Chair's discretion, members of the public may make oral presentations during the meeting. If you would like to make an oral presentation at the meeting, please notify the Executive Director no later than September 22, 2005. Written material for distribution at the meeting should reach the Coast Guard no later than September 22, 2005. If you would like a copy of your material distributed to each member of the committee in advance of the meeting, please submit 25 copies to the Executive Director no later than September 22, 2005.

Information on Services for Individuals With Disabilities

For information on facilities or services for individuals with disabilities or to request special assistance at the meeting, contact the Executive Director as soon as possible.

Dated: August 24, 2005.
Howard L. Hime,
Acting Director of Standards, Marine Safety, Security and Environmental Protection.

[FR Doc. 05-17214 Filed 8-29-05; 8:45 am]

BILLING CODE 4910-15-P